NUCLEAR REGULATORY COMMISSION

[Docket Nos. 50-335 and 389]

Florida Power and Light Company, et al., St. Lucie Plant, Unit Nos. 1 and 2; Notice of Issuance of Renewed Facility Operating License Nos. DPR-67 and NPF-16 for an Additional 20-Year Period

Notice is hereby given that the U.S. Nuclear Regulatory Commission (the Commission) has issued Renewed Facility Operating License Nos. DPR-67 and NPF-16 to Florida Power and Light Company (the licensee), the operator of the St. Lucie Plant, Unit Nos. 1 and 2 (St. Lucie, Units 1 and 2). Renewed Facility Operating License No. DPR-67 authorizes operation of St. Lucie, Unit 1, by the licensee at reactor core power levels not in excess of 2700 megawatts thermal in accordance with the provisions of the St. Lucie, Unit 1, renewed license and its Technical Specifications. Renewed Facility Operating License No. NPF-16 authorizes operation of St. Lucie, Unit 2, by the licensee at reactor core power levels not in excess of 2700 megawatts thermal in accordance with the provisions of the St. Lucie, Unit 2, renewed license and its Technical Specifications.

St. Lucie, Units 1 and 2, are pressurized, light water moderated and cooled, nuclear reactors located on Hutchinson Island in St. Lucie County, Florida.

The applications for the renewed licenses complied with the standards and requirements of the Atomic Energy Act of 1954, as amended (the Act), and the Commission's regulations. As required by the Act and the Commission's regulations in 10 CFR chapter I, the Commission has made appropriate findings, which are set forth in each license. Prior public notice of the action involving the proposed issuance of these renewed licenses and of an opportunity for a hearing regarding the proposed issuance of these renewed licenses was published in the Federal Register on December 27, 2001 (66 FR 66946).

For further details with respect to this action, see (1) the Florida Power and Light Company's renewal application for St. Lucie, Units 1 and 2, dated November 29, 2001, as supplemented by letters dated January 8, June 25, August 26, September 26 (four letters), October 3, October 10, November 27, December 23, 2002, and January 9, February 4, March 27 (two letters), March 28, April 25, May 30, June 10, and June 23, 2003; (2) the Commission's safety evaluation report, September 2003 (NUREG-1779); (3) the licensee's updated final safety analysis report; and (4) the Commission's final environmental impact statements (NUREG-1437), Supplement 11, for St. Lucie, Units 1 and 2, dated May 19, 2003. These documents are available at the NRC's Public Document Room, One White Flint North, 11555 Rockville Pike, first floor, Rockville, Maryland 20852, and can be viewed from the NRC Public Electronic Reading Room at http://www.nrc.gov/reading-rm/adams.html.

Copies of Renewed Facility Operating License Nos. DPR-67 and NFP-16 may be obtained by writing to the U.S. Nuclear Regulatory Commission, Washington, DC 20555-0001, Attention: Director, Division of Regulatory Improvement Programs. Copies of the safety evaluation report (NUREG-1779), and the final environmental impact statements (NUREG-1437), Supplement 11, for St. Lucie, Units 1 and 2 may be purchased from the National Technical Information Service, Springfield, Virginia 22161-0002 (http://www.ntis.gov), 1-800-553-6847, or the Superintendent of Documents, U.S. Government Printing Office, requestor's Government Printing Office deposit account number or VISA or MasterCard number and expiration date.

Dated at Rockville, Maryland, this 2 day of October, 2003.
For The Nuclear Regulatory Commission.
Pao-Tsin Kuo,
Program Director, License Renewal and Environmental Impacts Program,Division of Regulatory Improvement Programs, Office of Nuclear Reactor Regulation.

[FR Doc. 03-25604 Filed 10-8-03; 8:45 am]

BILLING CODE 7590-01-P